FEDERAL DEPOSIT INSURANCE CORPORATION

Determination of Insufficient Assets To Satisfy Claims Against Financial Institution in Receivership

AGENCY: Federal Deposit Insurance Corporation (FDIC).

ACTION: Notice.

SUMMARY: The FDIC has determined that insufficient assets exist in the receivership of R-G Premier Bank of Puerto Rico, Hato Rey, Puerto Rico, to make any distribution to general unsecured claims, and therefore such claims will recover nothing and have no value.

DATES: The FDIC made its determination on August 2, 2011.

FOR FURTHER INFORMATION CONTACT: If you have questions regarding this notice, you may contact an FDIC Claims Agent at (904) 256-3925. Written correspondence may also be mailed to FDIC as Receiver of R-G Premier Bank of Puerto Rico, Attention: Claims Agent, 7777 Baymeadows Way West, Jacksonville, Florida 32256.

SUPPLEMENTARY INFORMATION: On April 30, 2010, R-G Premier Bank of Puerto Rico, Hato Rey, Puerto Rico, (FIN #10230) was closed by the Office of the Commissioner of Financial Institutions of the Commonwealth of Puerto Rico (“OCFI”), and the Federal Deposit Insurance Corporation (“FDIC”) was appointed as its receiver (“Receiver”). In complying with its statutory duty to resolve the institution in the method that is least costly to the deposit insurance fund, see 12 U.S.C. 1823(c)(4), the FDIC facilitated a transaction with Scotiabank de Puerto Rico, San Juan, Puerto Rico, to acquire the deposits and most of the assets of the failed institution.

Section 11(d)(11)(A) of the FDI Act, 12 U.S.C. 1821(d)(11)(A), sets forth the order of priority for distribution of amounts realized from the liquidation or other resolution of an insured depository institution to pay claims. Under the statutory order of priority, administrative expenses and deposit liabilities must be paid in full before any distribution may be made to general unsecured creditors or any lower priority claims.

As of May 31, 2011, the value of assets available for distribution by the Receiver, together with maximum possible recoveries on claims against directors, officers, and other professionals, and claims in bankruptcy was $3,321,421,322. As of the same date, administrative expenses and depositor liabilities equaled $4,671,704,953, exceeding available assets and potential recoveries by $1,350,283,631. Accordingly, the FDIC has determined that insufficient assets exist to make any distribution on general unsecured creditor claims (and any lower priority claims) and therefore all such claims, asserted or unasserted, will recover nothing and have no value.

Dated: August 11, 2011.
Robert E. Feldman,
Executive Secretary.

[FR Doc. 2011-20765 Filed 8-15-11; 8:45 am]

BILLING CODE 6714-01-P